FEDERAL ELECTION COMMISSION

Sunshine Act Meetings

Federal Register CITATION OF PREVIOUS ANNOUNCEMENT: 86 FR 36549.

PREVIOUSLY ANNOUNCED TIME AND DATE OF THE MEETING: Thursday, July 15, 2021 at 10:00 a.m., Virtual Meeting.

CHANGES IN THE MEETING: The following matter was also considered: Motion to Amend Directive 68 to Include Additional Information in Quarterly Status Reports to Commission.

CONTACT PERSON FOR MORE INFORMATION: Judith Ingram, Press Officer, Telephone: (202) 694-1220.

(Authority: Government in the Sunshine Act, 5 U.S.C. 552b)

Laura E. Sinram,
Acting Secretary and Clerk of the Commission.

[FR Doc. 2021-15554 Filed 7-19-21; 11:15 am]

BILLING CODE 6715-01-P